DEPARTMENT OF THE TREASURY

Office of Foreign Assets Control

31 CFR Part 587

Publication of Russian Harmful Foreign Activities Sanctions Regulations Web General License 132

AGENCY: Office of Foreign Assets Control, Treasury.

ACTION: Publication of a web general license.

SUMMARY: The Department of the Treasury's Office of Foreign Assets Control (OFAC) is publishing a general license (GL) issued pursuant to the Russian Harmful Foreign Activities Sanctions Regulations: GL 132, which was previously made available on OFAC's website.

DATES: GL 132 was issued on November 21, 2025. See SUPPLEMENTARY INFORMATION for additional relevant dates.

FOR FURTHER INFORMATION CONTACT: OFAC: Assistant Director for Regulatory Affairs, 202-622-4855; or https://ofac.treasury.gov/contact-ofac.

SUPPLEMENTARY INFORMATION:

Electronic Availability

This document and additional information concerning OFAC are available on OFAC's website: https://ofac.treasury.gov/.

Background

On November 21, 2025, OFAC issued GL 132 to authorize certain transactions otherwise prohibited by the Russian Harmful Foreign Activities Sanctions Regulations, 31 CFR part 587. This GL was made available on OFAC's website (https://ofac.treasury.gov) when it was issued. The text of this GL is provided below.

OFFICE OF FOREIGN ASSETS CONTROL

Russian Harmful Foreign Activities Sanctions Regulations

31 CFR Part 587

GENERAL LICENSE NO. 132

Authorizing Certain Transactions Involving Paks II Civil Nuclear Power Plant

(a) Except as provided in paragraph (b) of this general license, all transactions prohibited by Executive Order (E.O.) 14024 involving the Paks II civil nuclear power plant project in Hungary (Paks II), including Paks II. Nuclear Power Plant Private Limited Company, or any successor project to the Paks II, that involve one or more of the following entities are authorized:

(1) Gazprombank Joint Stock Company;

(2) State Corporation Bank for Development and Foreign Economic Affairs Vnesheconombank;

(3) Public Joint Stock Company Bank Financial Corporation Otkritie;

(4) Sovcombank Open Joint Stock Company;

(5) Public Joint Stock Company Sberbank of Russia;

(6) VTB Bank Public Joint Stock Company;

(7) Joint Stock Company Alfa-Bank;

(8) Public Joint Stock Company Rosbank;

(9) Bank Zenit Public Joint Stock Company;

(10) Bank Saint-Petersburg Public Joint Stock Company;

(11) National Clearing Center (NCC);

(12) Any entity in which one or more of the above persons own, directly or indirectly, individually or in the aggregate, a 50 percent or greater interest; or

(13) the Central Bank of the Russian Federation.

(b) This general license does not authorize:

(1) The opening or maintaining of a correspondent account or payable-through account for or on behalf of any entity subject to Directive 2 under E.O. 14024, Prohibitions Related to Correspondent or Payable-Through Accounts and Processing of Transactions Involving Certain Foreign Financial Institutions;

(2) Any debit to an account on the books of a U.S. financial institution of the Central Bank of the Russian Federation, the National Wealth Fund of the Russian Federation, or the Ministry of Finance; or

(3) Any transactions otherwise prohibited by the Russian Harmful Foreign Activities Sanctions Regulations, 31 CFR part 587 (RuHSR), including transactions involving any person blocked pursuant to the RuHSR other than the blocked persons described in paragraph (a) of this general license, unless separately authorized.

Bradley T. Smith,

Director, Office of Foreign Assets Control.

Dated: November 21, 2025.

Bradley T. Smith,
Director, Office of Foreign Assets Control.

[FR Doc. 2026-00952 Filed 1-16-26; 8:45 am]

BILLING CODE 4810-AL-P